ENVIRONMENTAL PROTECTION AGENCY

[FRL-7884-9]

Riverhills Battery Superfund Site; Notice of Settlement

AGENCY: Environmental Protection Agency.

ACTION: Notice of settlement.

SUMMARY: Under Section 122(i) of the Comprehensive Environmental Response, Compensation and Liability Act (CERCLA), the Environmental Protection Agency (EPA) has entered into an Agreement for response cost at the Riverhills Battery Superfund Site (Site) located in Tampa, Hillsborough County, Florida, with Henry H. Black.

EPA will consider public comments on settlement of response cost, paragraphs thirty-six (36) and thirty-seven (37), of the Agreement for April 15, 2005.

EPA may withdraw from or modify the Agreement should such comments disclose facts or considerations which indicate the Agreement is inappropriate, improper, or inadequate. Copies of the Agreement are available from:

Ms. Paula V. Batchelor, U.S. Environmental Protection Agency, Region 4, Superfund Enforcement & Information Management Branch, Waste Management Division, 61 Forsyth Street, SW., Atlanta, Georgia 30303, (404) 562-8887, Batchelor.Paula@epa.gov.

Written comments may be submitted to Ms. Batchelor at the above address within 30 days of the date of this publication.

Dated: March 2, 2005.
De'Lyntoneus Moore,
Acting Chief, Superfund Enforcement & Information Management Branch.

[FR Doc. 05-5130 Filed 3-15-05; 8:45 am]

BILLING CODE 6560-50-P